DEPARTMENT OF HEALTH AND HUMAN SERVICES

National Institutes of Health

Government-Owned Inventions; Availability for Licensing

AGENCY: National Institutes of Health, Public Health Service, DHHS.

ACTION: Notice.

SUMMARY: The inventions listed below are owned by agencies of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

Macromolecular Imaging Agents for Liver Imaging

Martin W. Brechbiel (NCI) and Hisataka Kobayashi (EM)

[DHHS Reference No. E-240-01/0 filed 25 June 2001]

Licensing Contact: Dale Berkley; 301/496-7735 ext. 223; e-mail: berkleyd@od.nih.gov.

The invention is a macromolecular imaging agent comprising a polyalkylenimine dendrimer conjugated to a metal chelate that has been shown to be an excellent agent for imaging liver micrometastases as small as about 0.3 mm in a magnetic resonance image of the human liver. In a particular embodiment, the imaging agent is a diaminobutane-core polypropylenimine dendrimer having surface amino groups conjugated to gadolinium metal chelates. The invention makes possible the earlier detection of metastatic disease, leading to earlier application of a therapeutic regime and an improved prognosis.

Nucleic Acid and Amino Acid Sequences of Hemoglobin-Response Genes in Candida albicans and the Use of Reagents Derived from these Sequences in the Diagnosis of Disseminated Candida albicans Infections

David D. Roberts, Sizhuang Yan (NCI)

[Serial No. 09/258,634 filed 26 Feb 1999]

Licensing Contact: Uri Reichman; 301/496-7736 ext. 240; e-mail: reichmau@od.nih.gov.

This invention relates to diagnostic methods and kits for the detection of disseminated candidiasis. Candida albicans (C. albicans) is the most common pathogen involved in fungal infections in immunocompromised individuals, including AIDS, cancer patients, and organ transplant recipients. Systemic candidiasis is life-threatening in immunosuppressed patients and candidemia results in high morbidity and mortality. Within the last decade candidemia has increased ten-fold and is the third most common cause of positive blood cultures according to the Centers for Disease Control and Prevention. Accurate diagnosis of C. albicans and adequate treatment are of a great importance as disseminated infections are prevalent in hospitalized populations. However, a rapid and accurate diagnostic test for candidemia is not yet available. The traditional fungal culture is cumbersome and time consuming. Existing diagnostic kits based on serological ELISA tests detect antibodies against Candida cytoplasmic proteins but cannot differentiate between past and present infections. Diagnostic tests based on the present invention will be more accurate and will provide additional information related to the current status of hospitalized patients. The invention is based on the identification of three novel genes of C. albicans, which are expressed in the presence of hemoglobin. The expression and detection of these genes in patients would indicate disseminated candidiasis and is highly specific for C. albicans infection.

Dated: October 17, 2001.
Jack Spiegel,
Director, Division of Technology Development and Transfer, Office of Technology Transfer, National Institutes of Health.

[FR Doc. 01-27026 Filed 10-25-01; 8:45 am]

BILLING CODE 4140-01-P